ENVIRONMENTAL PROTECTION AGENCY

[EPA-HQ-OPPT-2018-0611; FRL-10006-89-OMS]

Information Collection Request Submitted to OMB for Review and Approval; Comment Request; TSCA Existing Chemical Risk Evaluation and Management—Generic ICR for Interviews and Focus Groups

AGENCY: Environmental Protection Agency (EPA).

ACTION: Notice.

SUMMARY: The Environmental Protection Agency (EPA) has submitted an information collection request (ICR), TSCA Existing Chemical Risk Evaluation and Management—Generic ICR for Interviews and Focus Groups (EPA ICR Number 2584.01 and OMB Control Number 2070-NEW) to the Office of Management and Budget (OMB) for review and approval in accordance with the Paperwork Reduction Act (PRA). This is a request for approval of a new collection. Public comments were previously requested via the Federal Register on August 5, 2019 during a 60-day comment period. This notice allows for an additional 30 days for public comments. A fuller description of the ICR is given below, including its estimated burden and cost to the public. An agency may not conduct or sponsor, and a person is not required to respond to, a collection of information unless it displays a currently valid OMB control number.

DATES: Comments must be received on or before July 6, 2020.

ADDRESSES: Submit your comments, referencing Docket ID Number EPA-HQ-OPPT-2018-0612 to EPA online using www.regulations.gov. The EPA Docket Center and Reading Room was closed to public visitors on March 31, 2020 to reduce the risk of transmitting COVID-19. There is a temporary suspension of mail delivery to EPA, and no hand deliveries are currently accepted. For further information on EPA Docket Center services and the current status, please visit https://www.epa.gov/dockets.

EPA's policy is that all comments received will be included in the public docket without change including any personal information provided, unless the comment includes profanity, threats, information claimed to be Confidential Business Information (CBI), or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: For technical information contact: Albert Monroe, Economic and Policy Analysis Branch, Chemistry, Economics, and Sustainable Strategies Division (MC7406M), Office of Pollution Prevention and Toxics, Environmental Protection Agency, 1200 Pennsylvania Ave. NW, Washington, DC 20460-0001; telephone number: (202) 564-7116; email address: monroe.albert@epa.gov. For general information contact: The TSCA-Hotline, ABVI-Goodwill, 422 South Clinton Ave. Rochester, NY 14620; telephone number: (202) 554-1404; email address: TSCA-Hotline@epa.gov.

SUPPLEMENTARY INFORMATION: Supporting documents, which explain in detail the information that the EPA will be collecting, are available in the public docket for this ICR. The docket can be viewed online at www.regulations.gov. Out of an abundance of caution for members of the public and our staff, the EPA Docket Center and Reading Room was closed to public visitors on March 31, 2020, to reduce the risk of transmitting COVID-19. Our Docket Center staff will continue to provide remote customer service via email, phone, and webform. For further information on EPA Docket Center services and the current status, please visit https://www.epa.gov/dockets.

Abstract: The purpose of this ICR is to help provide data for EPA's risk evaluations and risk management of existing chemicals under TSCA section 6 more efficiently and effectively. Under TSCA, EPA must gather information with sufficient detail about chemicals, including hazards, conditions of use, exposures, potentially exposed and susceptible subpopulations, health and environmental effects, benefits, reasonably ascertainable economic consequences, alternatives, and other information in a timely fashion to meet TSCA's statutory timeframes. Therefore, EPA is requesting approval for a generic ICR to conduct interviews and focus groups of respondents described below related to information collection for TSCA chemical risk evaluation and management. This research would consist of open-ended structured discussions or interviews with individuals or small groups of individuals, and therefore can provide in-depth information. Data collected under this generic clearance may be used in several ways during the risk evaluation and risk management processes, including establishing generic scenarios, developing models of various conditions of use of chemicals evaluated under TSCA or their alternatives, pretesting survey questions, and providing important context for publicly available information already available to EPA. EPA would not collect information of a sensitive or private nature. However, respondents may claim information submitted as part of an interview or focus group as confidential. EPA generally treats this information as obtained under TSCA, such that confidentiality claims are subject to the provisions of TSCA section 14.

Respondents/Affected Entities: Entities potentially affected by this ICR include chemical manufacturers (as long as the information requested does not duplicate information already in possession of the federal government), chemical users (including government agencies), processors, recyclers, chemical waste handlers, consumers of chemical-containing products, employees who may be exposed to the chemical evaluated, state and local regulators, non-governmental organizations, industry experts, and knowledgeable members of the public (including potentially exposed or susceptible subpopulations). As such, there are no typical respondent NAICS codes and the respondents will vary depending on the conditions of use of each chemical under consideration.

Respondent's obligation to respond: Voluntary.

Estimated total number of potential respondents: 714.

Frequency of response: On occasion.

Estimated total burden: 237 hours (per year). Burden is defined at 5 CFR 1320.3(b).

Estimated total costs: $18,296 (per year), which includes no annualized capital investment or maintenance and operational costs.

Changes in the estimates: This is a request for a new approval from OMB.

Courtney Kerwin,
Director, Regulatory Support Division.

[FR Doc. 2020-12042 Filed 6-3-20; 8:45 am]

BILLING CODE 6560-50-P